DEPARTMENT OF ENERGY

Federal Energy Regulatory Commission

[Docket No. CP07-79-000]

Kinder Morgan Interstate Gas Transmission, LLC; Notice of Request Under Blanket Authorization

February 8, 2007.

Take notice that on February 2, 2007, Kinder Morgan Interstate Gas Transmission, LLC (Kinder Morgan), P.O. Box 281304, Lakewood, Colorado 80228-8304, filed in Docket No. CP07-79-000, a prior notice request pursuant to sections 157.205 and 157.211(a)(2) of the Federal Energy Regulatory Commission's regulations under the Natural Gas Act to construct, own and operate a delivery point to serve Panhandle Feeders, Inc. (Panhandle Feeders) located in Scotts Bluff County, Nebraska, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TTY, (202) 502-8659.

Specifically, Kinder Morgan proposes to install a 2-inch hot tap and related facilities on its 16-inch diameter pipeline, which will serve as a bypass of Kinder Morgan, Inc.-Retail, the local distribution company currently providing natural gas service to Panhandle Feeders. Kinder Morgan states that the proposed facilities will not have an impact upon Kinder Morgan's peak day deliveries and that it has sufficient capacity to render the transportation service without detriment to its existing customers.

Any questions regarding the application should be directed to Skip George, Manager of Certificates, Kinder Morgan Interstate Gas Transmission, LLC, P.O. Box 281304, Lakewood, Colorado 80228-8304 at (303) 914-4969.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefor, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a) (1) (iii) and the instructions on the Commission's Web site (www.ferc.gov) under the “e-Filing” link.

Magalie R. Salas,
Secretary.

[FR Doc. E7-2585 Filed 2-14-07; 8:45 am]

BILLING CODE 6717-01-P